DEPARTMENT OF TRANSPORTATION

RESEARCH AND SPECIAL PROGRAMS ADMINISTRATION

Office of Hazardous Materials Safety; Notice of Application for Modification of Exemption

AGENCY: Research and Special Programs Administration, DOT.

ACTION: List of applications for modification of exemptions.

SUMMARY: In accordance with the procedures governing the application for, and the processing of, exemptions from the Department of Transportation's Hazardous Materials Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before December 29, 2000.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on December 8, 2000.
J. Suzanne Hedgepeth,
Director, Office of Hazardous Materials Exemptions and Approvals.

Application No. | Docket No. | Applicant | Modification of exemption
8451-M |  | TRW Automotive, Queen Creek, AZ (See Footnote 1) | 8451
8723-M |  | Senex Explosives, Inc., Cuddy, PA (See Footnote 2) | 8723
8760-M |  | Barton Solvents, Inc., Des Moines, IA (See Footnote 3) | 8760
9929-M |  | Orbital Sciences Corporation, Germantown, MD (See Footnote 4) | 9929
10869-M |  | Norris Cylinder Company, Longview, TX (See Footnote 5) | 10869
11526-M |  | BOC Gases, Murray Hill, NJ (See Footnote 6) | 11526
11691-M |  | Universal Flavors Corporation, Indianapolis, IN (See Footnote 7) | 11691
12022-M | RSPA-1998-3308 | Taylor-Wharton (Harsco Gas & Fluid Control Group), Harrisburg, PA (See Footnote 8) | 12022
12102-M | RSPA-1998-4019 | Onyx Environmental Services, L.L.C., Ledgewood, NJ (See Footnote 9) | 12102
12581-M | RSPA-2000-8387 | Ball Aerospace & Technologies Corp., Boulder, CO (See Footnote 10) | 12581
12582-M | RSPA-2000-8385 | State of Michigan (Dept. of State Police), East Lansing, MI (See Footnote 11) | 12582
¹ To modify the exemption to waive the requirement to have a copy of the exemption accompany the shipment of not more than 25 grams of Division 1.1 materials.
² To modify the exemption to authorize an additional non-DOT specification repump unit for bulk shipment of certain blasting agents.
³ To modify the exemption to allow for the transportation of additional Class 3 materials in cargo tanks having six or more compartments.
⁴ To modify the exemption to update the list of cargo air carriers and airports of departure for the transport of rocket motors having weights exceeding those specified in the regulations.
⁵ To modify the exemption to clarify the fracture toughness test requirements, for design qualification only, of non-DOT specification steel cylinders transporting certain compressed gases.
⁶ To modify the exemption concerning the calibration cylinder specification testing requirements of 3A and 3AA cylinders.
⁷ To modify the exemption to allow for the transportation of an additional Class 8 material exempt from segregation requirements; competent authority approval.
⁸ To modify the exemption to include 3BN cylinders and alternative test equipment/procedures for use in transporting Division 2.1, 2.2 and 2.3 materials.
⁹ To modify the exemption to allow for the transportation of densitized Division 5.1 and additional Class 3 materials; cargo vessel as an additional mode of transportation; expanded transportation services.
¹⁰ To reissue the exemption originally issued on an emergency basis for the transportation of helium in non-DOT specification packaging.
¹¹ To reissue the exemption originally issued on an emergency basis for the transportation of first aid/trauma kits containing 2.2 gases in a passenger-carrying aircraft.

[FR Doc. 00-31931 Filed 12-13-00; 8:45am]

BILLING CODE 4910-60-M